SMALL BUSINESS ADMINISTRATION

National Small Business Development Center Advisory Board; Public Meeting

The U.S. Small Business Administration, National Small Business Development Center Advisory Board will hold a federal public meeting on Monday, July 9, 2007 at 4 p.m. Eastern Standard Time. The meeting will take place at the Ohio Department of Development, 77 South High Street, 31st Floor Board Room, Columbus, Ohio 43215. The purpose of the meeting is to discuss the current draft of the White Paper; Board business, and the forthcoming National Association of SBDC annual conference.

Anyone wishing to be present must contact Erika Fischer, Senior Program Analyst, U.S. Small Business Administration, Office of Small Business Development Centers, 409 3rd Street, SW., Washington, DC 20416, telephone (202) 205-7045 or fax (202) 481-0681.

Matthew Teague,
Committee Management Officer.

[FR Doc. E7-11901 Filed 6-19-07; 8:45 am]

BILLING CODE 8025-01-P